DEPARTMENT OF HEALTH AND HUMAN SERVICES

National Institutes of Health

National Cancer Institute Amended; Notice of Meeting

Notice is hereby given of a change in the meeting of the National Cancer Institute Special Emphasis Panel, February 21, 2018, 10:00 a.m. to February 21, 2018, 05:00 p.m., National Cancer Institute Shady Grove, 9609 Medical Center Drive, Rockville, MD 20850 which was published in the Federal Register on January 24, 2018, 83 FR 3351.

This meeting notice is amended to change the meeting date from February 21, 2018 to March 20, 2018. The meeting is closed to the public.

Dated: February 22, 2018.
Melanie J. Pantoja,
Program Analyst, Office of Federal Advisory Committee Policy.

[FR Doc. 2018-04018 Filed 2-27-18; 8:45 am]

BILLING CODE 4140-01-P